OFFICE OF THE UNITED STATES TRADE REPRESENTATIVE

Generalized System of Preferences (GSP): Notice of Review Timetable and Pubic Hearings Regarding Additional Product Designation for Beneficiaries of the African Growth and Opportunity Act

AGENCY: Office of the United States Trade Representative.

ACTION: Notice.

SUMMARY: This notice lists products that the Trade Policy Staff Committee (TPSC) will be reviewing for possible duty-free importation from certain sub-Saharan African countries as provided under the African Growth and Opportunity Act (AGOA), which Congress recently enacted. The notice provides the dates and places the TPSC will hold public hearings on this subject, explains how to make written comments on products included in the list, and provides the deadline for these submissions.

FOR FURTHER INFORMATION CONTACT: GSP Subcommittee, Office of the United States Trade Representative, 600 17th Street, NW, Room 518, Washington, DC 20508. Telephone: (202) 395-6971.

SUPPLEMENTARY INFORMATION: Congress established the Generalized System of Preferences (GSP) program in Title V of the Trade Act of 1974, as amended (“Trade Act”) (19 U.S.C. 2461 et seq.). Under the GSP program, the President may exempt certain products of designated developing countries from import duties. The President implemented the program by Executive Order 11888 of November 24, 1975, and has modified it through later Executive Orders and Presidential Proclamations.

On May 18, 2000, the President signed into law the Trade and Development Act of 2000, which includes the AGOA. The AGOA amends the GSP program, authorizing the President to provide GSP (duty-free) treatment for selected products from designated sub-Saharan African countries if, after receiving advice from the U.S. International Trade Commission, he determines that the products are not import-sensitive in the context of imports from these countries. The AGOA names those countries whose products the President may designate for duty-free importation.

I. TPSC Review of Products To Be Selected for Duty-Free Treatment

This notice lists by Harmonized Tariff System numbers those products not currently receiving GSP treatment that the Congress determined are eligible for designation under the AGOA for such treatment when imported from sub-Saharan African countries. The TPSC's GSP Subcommittee will review this list, after holding hearings and receiving written comments from the public and advice from the International Trade Commission, to decide which of the products the TPSC will recommend to the President for GSP treatment if imported from countries designated as AGOA beneficiaries.

Listing the products proposed for GSP eligibility does not indicate any opinion about the merits of granting eligibility for these products. Placement on the list indicates only that the products have been found eligible for review by the GSP Subcommittee and the TPSC, and that such review will take place.

The GSP Subcommittee of the TPSC invites submissions supporting or opposing the granting of GSP eligibility for any article on the attached list. All such submissions should include an original and thirteen (13) copies in English and conform to 15 CFR 2007, particularly 2007.0, 2007.1(a)(1), 2007.1(a)(2), and 2007.1(a)(3). All submissions should identify the subject article(s) in terms of the current HTS nomenclature and should be provided by 5 p.m., July 5, 2000.

All communications about public comments should be addressed to: Chairman of the GSP Subcommittee, Office of the United States Trade Representative, 600 17th Street, NW, Room 518, Washington, DC 20508. Telephone number: (202) 395-6971. Questions may be directed to any staff member of the GSP Information Center. Public versions of all documents relating to this review will be available for inspection by appointment in the USTR public reading room. Appointments may be made from 10 a.m. to noon and 1 p.m. to 4 p.m. by calling (202) 395-6186.

Submissions that are granted “business confidential” status pursuant to 15 CFR 2203.6, and other qualifying information submitted in confidence pursuant to 15 CFR 2007.7, will not be available for public inspection. If a document contains such business confidential information, an original and thirteen (13) copies of the business confidential versions of the document along with an original and thirteen (13) copies of the non-confidential version must be submitted. The document that contains business confidential information should be clearly marked “business confidential” at the top and bottom of each page. The version that does not contain business confidential information (the public version) should also be clearly marked at the top and bottom of every page (either “public version” or “nonconfidential”).

II. Requests To Participate in the Public Hearings

The GSP Subcommittee will hold hearings on September 7, 2000 and, if needed, on September 8, 2000 beginning at 10 a.m. in the Truman Room of the White House Conference Center, 726 Jackson Place, NW., Washington, DC. The hearings will be open to the public, and a transcript of the hearings will be available for public inspection or it can be purchased from the reporting company. No electronic media coverage will be allowed.

All interested parties wishing to make an oral presentation at the hearings must submit the name, address, telephone number, and fax number of the witness or witnesses representing their organization to the Chairman of the GSP Subcommittee by 5 p.m. August 9, 2000 as well as an original and thirteen (13) copies (in English) or all written briefs or statements. Oral testimony before the GSP Subcommittee will be limited to five minute presentations that summarize or supplement information contained in the briefs or statements submitted for the record.

If, by the close of business on August 9, 2000 no witnesses are scheduled to appear at the hearing, the hearing will be canceled. Any person interested in attending the hearing as an observer or non-participant may call the GSP Information Office (202) 395-6971 after August 9, 2000 to determine whether a hearing will be held.

Post-hearing and rebuttal written briefs or statements will be accepted if they conform with the regulations cited above and if an original and thirteen (13) copies in English are submitted no later than 5 p.m. September 27, 2000. Parties not wishing to appear at the public hearings may submit pre-hearing written briefs or statements by August 9, 2000, and may submit post-hearing and rebuttal written briefs or statements by September 27, 2000. Comments by interested persons on the USITC Report prepared as part of this product review should be submitted as an original and thirteen (13) copies, in English, by 5 p.m. October 20, 2000.

On behalf of the President and in accordance with section 111 of AGOA (Section 506A of the Trade Act), on May 22, 2000 the list of products proposed for duty-free treatment eligibility under the GSP was furnished to the U.S. International Trade Commission (USITC) to secure its advice on (1) the probable economic effect of the elimination of U.S. import duties under GSP on U.S. industries producing like or directly competitive products, and on consumers; and (2) to the extent possible, the level of U.S. sensitivity to imports of such Sub-Saharan products.

Announcement of Products To Be Accepted for Designation as Eligible Articles for GSP Purposes When Imported Only From the Beneficiaries of the African Growth and Opportunity Act

The AGOA authorizes the President to provide GSP (duty-free) treatment for selected products from designated sub-Saharan African countries if, after receiving advice from the U.S. International Trade Commission, he determines that the products are not import-sensitive in the context of imports from these countries. The list of products designated as eligible for duty-free treatment under the GSP as a result of the review will be announced this winter.

H. John Rosenbaum,
Assistant U.S. Trade Representative for Trade and Development.

Attachment: List of HTS Numbers of the Products Proposed for Duty-Free Treatment Eligibility Under GSP

BILLING CODE 3901-01-M

[FR Doc. 00-13169 Filed 5-24-00; 8:45 am]

BILLING CODE 3901-01-C